DEPARTMENT OF THE TREASURY

Submission for OMB Review; Comment Request

April 19, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 25, 2005 to be assured of consideration.

United States Mint

OMB Number: 1525-0012.

Form Number: None.

Type of Review: Extension.

Title: Generic Clearance for Voluntary Surveys To Implement E.O. 12862 Implemented by Sales and Marketing Division.

Description: This is generic clearance for an undefined number of customer satisfaction and opinion surveys or focus group interviews to be conducted over the three years. The information collected from these surveys will be used to improve Mint products and services.

Respondents: Individuals or households, Business or other for-profit.

Estimated Number of Respondents: 5,388.

Estimated Burden Hours per Respondent: Various.

Frequency of Response: Other (various).

Estimated Total Reporting Burden: 2,776 hours.

Clearance Officer: Yvonne M. Pollard (202) 772-7310, United States Mint, 799 9th Street, NW., 4th Floor, Washington, DC 20229.

OMB Reviewer: Alexander T. Hunt (202) 395-7316, Office of Management and Budget, Room 10235, New Executive Office Building, Washington, DC 20503.

Lois K. Holland,
Treasury PRA Clearance Officer.

[FR Doc. 05-8233 Filed 4-22-05; 8:45 am]

BILLING CODE 4820-02-P